ENVIRONMENTAL PROTECTION AGENCY

40 CFR Part 52

[WI119-01b; FRL-7657-7]

Approval and Promulgation of Implementation Plans; Wisconsin: Kewaunee County Ozone Maintenance Plan Update

AGENCY: Environmental Protection Agency (EPA).

ACTION: Proposed rule.

SUMMARY: The EPA is proposing to approve a plan prepared by Wisconsin to maintain the one-hour national ambient air quality standard (NAAQS) for ozone in the Kewaunee County maintenance area through the year 2012. This revision is required by the Clean Air Act. The effect of this approval is to ensure Federal enforceability of the State air program plan and to maintain consistency between the State-adopted plan and the approved State Implementation Plan (SIP). In the final rules section of this Federal Register, we are approving the SIP revision as a direct final rule without prior proposal, because we view this as a noncontroversial revision amendment and anticipate no adverse comments. A detailed rationale for the approval is set forth in the direct final rule. If no adverse comments are received in response to the direct final rule, no further activity is contemplated in relation to this proposed rule. If we receive adverse comments, the direct final rule will be withdrawn and all public comments received will be addressed in a subsequent final rule based on this proposed rule. We will not institute a second comment period on this action. Any parties interested in commenting on this action should do so at this time.

DATES: Written comments must be received on or before June 9, 2004.

Comments may also be submitted electronically or through hand delivery/courier. Please follow the detailed instructions described in part(I)(B)(1)(i) through (iii) of the SUPPLEMENTARY INFORMATION section of the related direct final rule which is published in the Rules section of this Federal Register.

ADDRESSES: Written comments should be sent to: J. Elmer Bortzer, Chief, Criteria Pollutants Section, Air Programs Branch (AR-18J), EPA Region 5, 77 West Jackson Boulevard, Chicago, Illinois 60604-3590. bortzer.jay@epa.gov

FOR FURTHER INFORMATION CONTACT: Michael Leslie, Environmental Engineer, Criteria Pollutants Section (AR-18J), Air Programs Branch, Air and Radiation Division, United States Environmental Protection Agency, Region 5, 77 West Jackson Boulevard, Chicago, Illinois 60604, (312) 353-6680, leslie.michael@epa.gov.

SUPPLEMENTARY INFORMATION: For additional information, see the Direct Final Rule which is located in the Rules section of this Federal Register. Copies of the request and the EPA's analysis are available for inspection at the above address. (Please telephone Michael Leslie at (312) 353-6680 before visiting the Region 5 Office.)

Dated: April 26, 2004.
Bharat Mathur,
Acting Regional Administrator, Region 5.

[FR Doc. 04-10342 Filed 5-7-04; 8:45 am]

BILLING CODE 6560-50-P